FEDERAL COMMUNICATIONS COMMISSION

Sunshine Act Meeting; Revised Sunshine Notice

June 1, 2009.

FCC To Hold Open Commission Meeting Wednesday, June 3, 2009

The Federal Communications Commission will hold an Open Meeting on Wednesday, June 3, 2009, which is scheduled to commence at 9:30 a.m. in Room TW-C305, at 445 12th Street, SW., Washington, DC (See Sunshine Notice dated May 27, 2009).

The meeting will include presentations and discussion by senior agency officials as well as industry, consumer groups and others involved in the Digital Television Transition.

Agenda and Witness List

9:30 a.m. Opening Statements by Chairman and Commissioners.

9:45 a.m. Overview:

William Lake, DTV Coordinator.

10 a.m. Panel 1: FCC and NTIA Reports on the Status of the DTV Transition and Prospects for June 12, 2009.

Eloise Gore, Associate Bureau Chief, Media Bureau, Federal Communications Commission;

Cathy Seidel, Chief, Consumer and Governmental Affairs Bureau, Federal Communications Commission;

Andrew Martin, Chief Information Officer, Federal Communications Commission;

Julius Knapp, Chief, Office of Engineering and Technology, Federal Communications Commission;

Dr. Bernadette McGuire-Rivera, Associate Administrator, Office of Telecommunications and Information Applications, National Telecommunications and Information Administration.

10:45 a.m. Break.

11 a.m. Panel 2: Industry and Consumer Group Reports on the Status of the DTV Transition and Prospects for June 12, 2009.

Jane Mago, Executive Vice President & General Counsel, National Association of Broadcasters;

Larry Sidman, President and CEO, Association of Public Television Stations;

David Donovan, President, MSTV;

Kyle McSlarrow, President and CEO, National Cable & Telecommunications Association;

Joel Kelsey, Policy Analyst, Consumers Union;

Christopher A. McLean, Executive Director, Consumer Electronics Retailers Coalition;

Shawn DuBravac, Economist, Consumer Electronics Association;

Erica Swanson, Deputy Director for Field Operations & Director, LCCREF DTV Assistance Campaign Leadership Conference on Civil Rights Education Fund.

11:45 a.m. Closing Statements/Adjournment.

The meeting site is fully accessible to people using wheelchairs or other mobility aids. Sign language interpreters, open captioning, and assistive listening devices will be provided on site. Other reasonable accommodations for people with disabilities are available upon request. Include a description of the accommodation you will need and a way we can contact you if we need more information. Last minute requests will be accepted, but may be impossible to fill. Send an e-mail to: fcc504@fcc.gov or call the Consumer & Governmental Affairs Bureau at 202-418-0530 (voice), 202-418-0432 (tty).

Additional information concerning this meeting may be obtained from Audrey Spivack or David Fiske, Office of Media Relations, (202) 418-0500; TTY 1-888-835-5322. Audio/Video coverage of the meeting will be broadcast live with open captioning over the Internet from the FCC's Audio/Video Events Web page at http://www.fcc.gov/realaudio.

For a fee this meeting can be viewed live over George Mason University's Capitol Connection. The Capitol Connection also will carry the meeting live via the Internet. To purchase these services call (703) 993-3100 or go to http://www.capitolconnection.gmu.edu.

Copies of materials adopted at this meeting can be purchased from the FCC's duplicating contractor, Best Copy and Printing, Inc. (202) 488-5300; Fax (202) 488-5563; TTY (202) 488-5562. These copies are available in paper format and alternative media, including large print/type; digital disk; and audio and video tape. Best Copy and Printing, Inc. may be reached by e-mail at FCC@BCPIWEB.com.

Federal Communications Commission.
William F. Caton,
Deputy Secretary.

[FR Doc. E9-13113 Filed 6-2-09; 11:15 am]

BILLING CODE 6712-01-P